DEPARTMENT OF ENERGY

Federal Energy Regulatory Commission

Notice of Application and Soliciting Comments, Motions To Intervene, and Protests

November 5, 2004.

Take notice that the following application has been filed with the Commission and is available for public inspection:

a. Application Type: Change in Land Rights.

b. Project No: 2113-165.

c. Date Filed: October 12, 2004.

d. Applicant: Wisconsin Valley Improvement Company (WVIC).

e. Name of Project: Wisconsin Valley (Reservoirs) Hydroelectric Project.

f. Location: The project is located on the Wisconsin River and Headwater Tributaries in Gogebic County, Michigan and Vilas, Forest, Oneida, Lincoln, and Marathon Counties, Wisconsin.

g. Filed Pursuant to: Federal Power Act, 16 U.S.C. 791(a)-825(r).

h. Applicant Contact: Robert W. Gall, President, Wisconsin Valley Improvement Company, 2301 North Third Street, Wausau, Wisconsin 54403, (715) 848-2976, ext. 308.

i. FERC Contact: Any questions on this notice should be addressed to Steve Naugle at (202) 502-6061, or by e-mail: steven.naugle@ferc.gov.

j. Deadline for filing comments and/or motions: December 6, 2004.

All documents (original and eight copies) should be filed with: Ms. Magalie R. Salas, Secretary, Federal Energy Regulatory Commission, DHAC, PJ-12.1, 888 First Street, NE., Washington DC 20426. Please include the project number (2113-165) on any comments or motions filed. Comments, protests and interventions may be filed electronically via the Internet in lieu of paper. See 18 CFR 385.2001(a)(1)(iii) and the instructions on the Commission's Web site under the “e-Filing” link. The Commission strongly encourages electronic filings.

k. Description of Proposal: WVIC, licensee for the Wisconsin Valley (Reservoirs) Project proposes to transfer fee ownership of 6,114.6 acres of flooded Project land (reservoir bottom) to the Wisconsin Department of Natural Resources (WDNR) at the Willow Reservoir. The licensee shall retain: (1) Areas owned in fee that contain dikes and other operational structures; (2) flowage rights necessary for reservoir operation; and (3) responsibility for Cultural Resource management of project lands. The FERC Project boundary will remain unchanged.

l. This filing is available for review at the Commission in the Public Reference Room or may be viewed on the Commission's Web site at www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-3212 Filed 11-17-04; 8:45 am]

BILLING CODE 6717-01-P